DEPARTMENT OF TRANSPORTATION

Federal Aviation Administration

14 CFR Part 71

[Docket No. FAA-2015-7611; Airspace Docket No. 15-AGL-20]

RIN 2120-AA66

Modification of VOR Federal Airway V-443; North Central United States

AGENCY: Federal Aviation Administration (FAA), DOT.

ACTION: Final rule.

SUMMARY: This action modifies VOR Federal airway V-443, which extends across the United States/Canadian border, in the north central United States. The FAA is taking this action to reflect and accommodate route changes made in Canadian airspace as part of Canada's Windsor-Toronto-Montreal (WTM) airspace redesign project.

DATES: Effective date 0901 UTC, March 31, 2016. The Director of the Federal Register approves this incorporation by reference action under title 1, Code of Federal Regulations, part 51, subject to the annual revision of FAA, Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.9Z at NARA, call (202) 741-6030, or go to http://www.archives.gov/federal_register/code_of_federal-regulations/ibr_locations.html.

FAA Order 7400.9, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

In 1962, the FAA published in the Federal Register a rule that extended V-443 from the Cleveland, OH, VHF Omnidirection Range Tactical Air Navigation (VORTAC) navigation aid (NAVAID) over the Aylmer, Ontario, Canada, Omnidirection Range/Distance Measuring Equipment (VOR/DME) NAVAID to the Toronto, Ontario, Canada, VOR/DME NAVAID, excluding the airspace within Canada (27 FR 11497, November 22, 1962). The route extension was established in concert with the Canadian Department of Transport to provide a more direct route between Cleveland and Toronto.

In 1989, the FAA published in the Federal Register a rule to amend V-443 (54 FR 39166, September 25, 1989). The amendment inserted an intersection fix between the Aylmer, ON, Canada, VOR/DME and the Toronto, ON, Canada, VOR/DME NAVAIDs to adjust the arrival/departure routes to/from Toronto, ON, Canada, and alleviate the congestion and compression of air traffic in that area. As a result, the V-433 description was amended to reflect the route being realigned from the Aylmer, Ontario, Canada, VOR/DME, to an intersection fix defined by the Aylmer 051° and Toronto 210° radials, to the Toronto, ON, Canada, VOR/DME.

In November 2014, Canada removed the V-443 route segment from the Aylmer, ON, Canada, VOR/DME, to the Toronto, ON, Canada, VOR/DME, as part of their WTM airspace redesign program; however, corresponding action amending the FAA's V-443 legal description was not accomplished. This disconnect led to the charted depiction of V-443 being amended in the Instrument Flight Rules (IFR) low altitude enroute charts and the FAA National Airspace System Repository (NASR) database being updated, but the V-443 legal description published in FAA Order 7400.9, Airspace Designations and Reporting Points, which is incorporated by reference in 14 CFR part 71, remaining unchanged.

Since the basis for establishing the V-443 route segment between the Alymer, ON, Canada, VOR/DME to the Toronto, ON, Canada, VOR/DME no longer exists, the FAA is amending the route description in FAA Order 7400.9 and 14 CFR part 71.

VOR Federal airways are published in paragraph 2010 of FAA Order 7400.9Z dated August 6, 2015, and effective September 15, 2015, which is incorporated by reference in 14 CFR 71.1. The VOR Federal airway listed in this document will be subsequently amended in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

The FAA is amending Title 14 of the Code of Federal Regulations (14 CFR) part 71 by removing the route segment of V-443 that extends from Aylmer, ON, Canada, to Toronto, ON, Canada. The remaining portion of V-443 is unchanged. This action responds to the route changes made by Canada as part of their WTM airspace redesign project. Canada has subsequently removed this route segment and it no longer exists on aeronautical charts. Therefore, notice and public procedure under 5 U.S.C. 553(b) are unnecessary.

All radials in the route description below are unchanged and stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action consists of modifying an airway and it is not expected to cause any potentially significant environmental impacts, and no extraordinary circumstances exists that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015 and effective September 15, 2015, is amended as follows:

Paragraph 2010(a) Domestic VOR Federal Airways.

* * * * *

V-443 [Amended]

From INT Newcomerstown, OH, 099° and Bellaire, OH, 044° radials; Newcomerstown; Tiverton, OH; Dryer, OH; INT Dryer 049° and Aylmer, ON, Canada, 205° radials; to Aylmer. The airspace within Canada is excluded.

* * * * *

Issued in Washington, DC, on January 7, 2016.
Gary A. Norek,
Manager, Airspace Policy Group.

[FR Doc. 2016-00521 Filed 1-19-16; 8:45 am]

BILLING CODE 4910-13-P